NATIONAL AERONAUTICS AND SPACE ADMINISTRATION

[Notice (03-087)]

Notice of Prospective Patent License

AGENCY: National Aeronautics and Space Administration.

ACTION: Notice of Prospective Patent License.

SUMMARY: NASA hereby gives notice that the Keymaster Technologies, Inc., a Delaware corporation, has applied for an exclusive license to practice the inventions disclosed in NASA Case Nos. MFS-31898-1 entitled “Methods for Identification and Verification Using Vacuum XRF System” and MFS-31886-1 entitled Methods for Identification and Verification Using Digital Equivalent Data System.” Written objections to the prospective grant of a license should be sent to Mr. James J. McGroary, Patent Counsel/LS01, Marshall Space Flight Center, Huntsville, AL 35812. NASA has not yet made a determination to grant the requested license and may deny the requested license even if no objections are submitted within the comment period.

DATES: Responses to this notice must be received by August 14, 2003.

FOR FURTHER INFORMATION CONTACT: Sammy A. Nabors, Technology Transfer Department/CD30, Marshall Space Flight Center, Huntsville, AL 35812, telephone (256) 544-5226.

Dated: July 17, 2003.
Robert M. Stephens,
Deputy General Counsel.

[FR Doc. 03-19369 Filed 7-29-03; 8:45 am]

BILLING CODE 7510-01-P